DEPARTMENT OF DEFENSE

Office of the Secretary

Department of Defense Program for Construction, Renovation, Repair or Expansion of Public Schools Located on Military Installations

AGENCY: Office of Economic Adjustment (OEA), Department of Defense (DoD).

ACTION: Notice.

SUMMARY: This notice describes a one-time DoD program, administered by OEA, to distribute $250 million made available by Congress to construct, renovate, repair, or expand elementary and secondary public schools on military installations in order to address capacity or facility condition deficiencies at such schools.

DATES: Not applicable. Funds will be distributed as described in this notice until exhausted.

ADDRESSES: Not applicable. Appropriate information will be provided directly to invited applicants.

FOR FURTHER INFORMATION CONTACT: David F. Witschi, OEA Associate Director at (703) 604-6020 or david.witschi@wso.whs.mil.

SUPPLEMENTARY INFORMATION: The Secretary of Defense is authorized by Section 8109 of Public Law 112-10, the Department of Defense and Full-Year Continuing Appropriations Act, 2011, and is choosing to act through OEA, to provide up to $250 million “to make grants, conclude cooperative agreements, or supplement other Federal funds to construct, renovate, repair, or expand elementary and secondary public schools on military installations in order to address capacity or facility condition deficiencies at such schools: Provided further, that in making such funds available, OEA shall give priority consideration to those military installations with schools having the most serious capacity or facility condition deficiencies as determined by the Secretary of Defense.”

OEA is establishing a one-time non-competitive program, as described in this notice, to administer this appropriation.

1. Program for Construction, Renovation, Repair, or Expansion of Public Schools Located on Military Installations

On July 19, 2011, DoD approved a “Public Schools on Military Installations Priority List” (Priority List) that represents the Department's prioritization of those public schools on military installations with the most serious capacity or facility condition deficiencies. Using this list, those Local Educational Agencies (LEA's) representing the schools with the most serious capacity and facility condition deficiencies will be invited to submit a request for funding. DoD will conduct an initial meeting with the invited LEAs to discuss the specific deficiencies noted for the affected school, the purpose of the funding, the application process including a proposal submission timeline, and the minimum required matching share. After an LEA submits its proposal, a multi-disciplined Federal evaluation team will review the request and conduct a site visit to the respective school and community/installation prior to making a recommendation to the decision official, who is the OEA Director. A successful LEA will be asked to complete a formal grant application. Grant awards will be made to successful applicants until the available funds are exhausted.

(a) Available Funds—Section 8109 of Public Law 112-10 provides $250 million to construct, renovate, repair, or expand elementary and secondary public schools on military installations in order to address capacity or facility condition deficiencies at such schools. Of this amount, OEA may enter into reimbursable agreements with other Federal entities, as OEA deems necessary, to help carry out compliance with the National Environmental Policy Act, construction grant oversight, and other activities on OEA's behalf for the effective implementation and administration of this appropriation. Funds not applied to such reimbursable agreements are available for awards to LEAs.

(b) Priority Consideration—Section 8109 of Public Law 112-10, requires that in making such funds available, OEA shall give priority consideration to those military installations with schools having the most serious capacity or facility condition deficiencies as determined by the Secretary of Defense. On July 19, 2011, consistent with this appropriation language, DoD approved a Priority List that represents the Department's identification of those public schools on military installations with the most serious capacity or facility condition deficiencies, and which will be used to select the schools towards which the funds will be applied. A copy of the Department's Priority List may be viewed at http://www.militaryhomefront.dod.mil/l/onbaseschools. All questions concerning the Priority List should be directed to the Office of the Under Secretary of Defense for Personnel and Readiness, attention: Russell Roberts, Chief, Logistics Division, Department of Defense Education Activity at (703) 588-3502 or psmischools@hq.dodea.edu.

(c) Eligible Applicants—Only LEAs that operate a public school on a military installation, and receive a written invitation from OEA, may request funds under this program. OEA will initially request LEAs with schools having the most serious capacity or facility condition deficiencies as determined by DoD to submit proposals. DoD will conduct an initial meeting with representatives of the invited LEAs, and representatives from their respective installations and States, to discuss the specific deficiencies noted for the affected school, the purpose of the funding, the application process, and the matching share requirement. As decisions are made, additional LEAs on the Priority List may be notified until all funds are exhausted.

(d) Eligible Project Activities—Funds must be used by the LEA within a reasonable period of time to construct, renovate, repair, or expand the public school on a military installation as identified in the OEA invitation letter. The decision concerning whether new construction, renovation, repair, or expansion is the appropriate corrective action, as well as the need for ancillary facilities, such as recreation fields, etc., associated with the school project, will be made by the LEA, subject to review by OEA. Eligible project costs may include project administration, architectural/engineering, design, preparation of environmental documentation, inspection and testing, construction, equipment and furnishings, contingency costs, demolition of the facilities being replaced, renovated or repaired, and costs for swing space, if required, to implement the project. The LEA shall ensure that the project is functional, economical, and not elaborate in design or extravagant in the use of materials, compared with facilities of a similar type in the State or other applicable geographical area.

(e) Supplement—Not Supplant—These funds may be used to supplement other Federal or non-Federal funds, but may not be used to supplant funds previously committed to or available for the project. LEA proposals must identify any funding, regardless of source, previously committed to or available for the project. OEA reserves the right to reduce an award by the amount of other funds determined to have been previously committed to the project.

(f) Matching Share—A matching share, equal to not less than twenty (20) percent of the total project cost is required to be provided by the LEA. The matching share may be cash, an in-kind contribution, or a combination of both, and LEAs must demonstrate that the match is or will be available to permit timely execution of the project. For the purposes of this funding, LEAs may use other Federal-sourced or non-Federal funds (State, local or private contributions) committed to or available for the project to meet the matching share requirement. LEAs will be encouraged to seek State and other funding, and to structure proposals to take best advantage of other contributions. OEA may waive part or the entire matching share requirement on a case-by-case basis of demonstrated LEA inability to pay. In such cases, the LEA will bear the burden of demonstrating an inability to pay to the satisfaction of OEA. Requests for waiver of the matching share requirement will be subject to an assessment conducted by OEA, in concert with other Federal agency participation as needed, to ensure that funds are used to supplement and not supplant other available funds, and to determine an appropriate matching contribution. In any case, projects must be completed with the amount of funds provided (together with other Federal or non-Federal funds, if necessary) and result in a complete and usable project.

(g) Project Proposal and Preliminary Engineering Information—LEAs that are invited to apply will be asked to submit a project proposal within 90 days, and an OEA staff member will be assigned to work with the LEA as a resource to answer any questions about the proposal process. If a proposal cannot be completed within 90 days, the LEA should submit a status report and alternate timeline for its completion. The following proposal information will assist OEA in determining compliance with legal and programmatic requirements:

• A general description of project components and preliminary engineering report;

• Sketches or schematics showing general layout and location of existing site conditions and the proposed project;

• A feasibility analysis that supports the preferred alternative (replacement, renovation, repair or expansion) to address the school's capacity and/or facility condition deficiencies;

• Any structural or soils reports or other studies used in the analysis of the proposed project design decision;

• A current cost estimate, including the estimated cost for architectural/engineering design and inspection, environmental compliance, construction, demolition, any equipment that is moveable or is not built-in to the project, and swing space requirements, if included in the project. Provide the basis for the determination of construction contingencies;

• A comparison to costs and construction standards used at other LEA-owned schools located off the installation;

• A list of permits required for the proposed project and their current status;

• An estimated time schedule for design, permitting, bidding and award of contracts and construction;

• A statement of support for the proposal from the host installation that confirms that the project is compatible with the installation operations, airfield or land use plans;

• A statement that the project is not located in a FEMA-identified special flood hazard area;

• A letter from the LEA stating that the matching funds are committed and readily available and will not be conditioned or encumbered in any way that would preclude their use for the project;

• Environmental information sufficient to evaluate all reasonable alternatives to the proposed project, the direct and indirect environmental impacts, as well as the cumulative impacts on the environment as defined in the Council on Environmental Quality's regulations for implementing the National Environmental Policy Act (NEPA), set out at 40 CFR 1500-1508;

• Financial information for the last four (4) operating cycles of the LEA demonstrating financial wherewithal to support the proposal, that available funds are not being supplanted and, where necessary, justifying any matching share waiver request.

(h) Federal Evaluation Team—The OEA Director will designate a multi-disciplined Federal Evaluation Team to review each LEA request for funding and conduct a site visit to the respective school and community. The scope of the Team's review will be uniform for all proposals evaluated. Composition of the Team may include participation, including financial underwriting expertise, from the Office of the Under Secretary of Defense for Personnel and Readiness, the Military Services, the U.S. Department of Education, and other Federal agencies as needed. The Team will evaluate the appropriateness of the LEA's proposed method of corrective action, i.e., new construction, renovation, repair, or expansion, and the project's responsiveness to the Department's Priority List. In the event the LEA requests a waiver of the matching share requirement, the Team will also assess the waiver request and identify an appropriate matching share for the project. The Team will make its recommendation to the decision official, who is the OEA Director.

(i) NEPA—Awards are subject to compliance with NEPA and the Council on Environmental Quality NEPA regulations. Preparation of an appropriate environmental impact analysis for selected projects is the responsibility of the successful applicant in coordination with the respective installation. OEA will notify the Commanding Officer of the military installation on which the school is located that the LEA has been invited to request funding for an on-installation school construction, renovation, repair or expansion project, and request that the installation cooperate with the LEA in the preparation of an appropriate environmental impact analysis. Based on an independent evaluation of the environmental impact analysis prepared by the applicant, a pre-award NEPA determination (e.g., FONSI) will be made by OEA. The applicant's cost for preparing the NEPA documentation is a reimbursable project expense.

(j) Sequence of Funding Decisions—The OEA Director will make funding decisions generally according to the DoD Priority List. That is, the OEA Director will generally make funds available first to the schools with the most serious capacity or facility condition deficiencies before making funds available to schools with less serious capacity or facility condition deficiencies. To expedite this process, OEA will invite an initial group of the schools designated as having the most serious deficiencies to concurrently submit their respective project proposals. Once decisions are reached for this initial group, the next group(s) will be invited to apply, to the extent funds remain available.

(k) Final Application—Once a project scope has been finalized and the OEA Director has made a decision on an LEA proposal, the LEA will be invited to complete an eGrant application (Office of Management and Budget Standard Form 424) under Catalog of Federal Domestic Assistance Number: 12.600. Subject to receipt of a complete application and completion of the NEPA process, the LEA will receive a notice of award in the form of a Grant Agreement, signed by the OEA Director (Grantor), on behalf of DoD. The Grant Agreement will be transmitted electronically.

(l) Site Control and Post Award Responsibilities—While most public schools on military installations are owned by the LEAs that operate them, some of these public schools, although operated by an LEA, are currently owned by the U.S. Government (U.S. Department of Education or the U.S. Army). OEA will require, as a condition of receiving assistance under this program, that the LEA evidence: Adequate site control to permit necessary construction, renovation, repair, expansion, demolition and/or swing space activities; beneficial ownership of the new, expanded, or renovated facility; and responsibility for operation and maintenance of the new, renovated, or expanded facility for the remainder of its useful life in accordance with Federal, State and local requirements, including at a minimum, maintaining previous levels of operation and maintenance funding. The Grantee may not charge students or school personnel for the ordinary use of facilities, furnishing, or equipment purchased with grant funds. The Grantee shall administer and supervise implementation of the project, maintaining competent architectural supervision and inspection at the project site to ensure the work conforms to the approved drawings and specifications.

(m) Administrative and National Policy Requirements—The Grantee and any consultant/contractor operating under the terms of a grant shall comply with all Federal, State, and local laws applicable to its activities including the following: National Environmental Policy Act; National Historic Preservation Act; 32 CFR part 33, “Uniform Administrative Requirements for Grants and Cooperative Agreements to State and Local Governments”; OMB Circulars A-87, “Cost Principles for State and Local Governments” and the revised A-133, “Audits of States, Local Governments and Non-Profit Organizations”; 32 CFR part 25, “Government-wide Debarment and Suspension (Non-procurement)”; 32 CFR part 26,”Drug-free Workplace”; and 32 CFR part 28, “New Restrictions on Lobbying (Grants).”

(n) Reporting—OEA requires interim performance reports and one final performance report for each award. The performance reports will contain information on the following:

• A comparison of actual accomplishments to the objectives established for the reporting period;

• Reasons for any slippage and proposed plan to mitigate;

• Additional pertinent information when appropriate;

• A comparison of actual and projected expenditures for the period;

• The amount of awarded funds on hand at the beginning and end of the reporting period.

The final performance report must contain a summary of activities for the entire award period. An SF 425, “Financial Status Report,” must be submitted to OEA within ninety (90) days after the end date of the award. Any grant funds actually advanced and not needed for grant purposes shall be returned immediately to the Office of Economic Adjustment.

OEA will provide a schedule for reporting periods and report due dates in the Award Agreement.

2. Agency Contacts

For further information, to answer questions regarding this notice, or for help with problems, contact: David F. Witschi, OEA Associate Director, telephone: (703) 604-6020, e-mail: david.witschi@wso.whs.mil or regular mail at 400 Army Navy Drive, Suite 200, Arlington, VA 22202-4704. Specific questions concerning the Department's Public Schools on Military Installations Priority List should be directed to the Office of the Under Secretary of Defense for Personnel and Readiness, attention: Russell Roberts, Chief, Logistics Division, Department of Defense Education Activity at (703) 588-3502 or psmischools@hq.dodea.edu.

3. Other Information

The OEA Internet address is http://www.oea.gov.

Dated: September 6, 2011.
Aaron Siegel,
Alternate OSD Federal Register Liaison Officer, Department of Defense.

[FR Doc. 2011-23065 Filed 9-8-11; 8:45 am]

BILLING CODE 5001-06-P